DEPARTMENT OF ENERGY

Federal Energy Regulatory Commission

[Docket No. RP01-13-001]

Williams Gas Pipelines Central, Inc., Notice of Compliance Filing

December 7, 2000.

Take notice that on November 27, 2000, Williams Gas Pipelines Central, Inc. (Williams) tendered for filing as part of its FERC Gas Tariff, Original Volume No. 1, the following tariff sheet to become effective December 1, 2000:

Third Revised Sheet No. 147

In compliance with the Commission's October 27, 2000 Order (Docket No. RM96-1, et al., 93 FERC ¶ 61,903), Williams is removing from Section 3(f) of the PS Rate Schedule the language which would have permitted an appropriate adjustment for fuel. This removal is without prejudice to Williams' filing to revise its tariff in the future should actual experience warrant an additional transportation charge attributable to any specific netting or trading activity.

Williams states that copies of the revised tariff sheet is being mailed to Williams's jurisdictional customers and interested state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-31834 Filed 12-13-00; 8:45 am]

BILLING CODE 6717-01-M